DEPARTMENT OF THE INTERIOR

National Park Service

National Register of Historic Places; Notification of Pending Nominations

Nominations for the following properties being considered for listing in the National Register were received by the National Park Service before January 04, 2003. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service, 1201 Eye St. NW., 8th floor, Washington DC 20005; or by fax, (202) 343-1836. Written or faxed comments should be submitted by January 31, 2003.

Carol D. Shull,
Keeper of the National Register of Historic Places.

CALIFORNIA

Los Angeles County

Middough Brothers—Insurance Exchange Building, 205 E. Broadway, Long Beach, 03000002.

COLORADO

Denver County

Robinson House, 3435 Albion St., Denver, 03000003.

FLORIDA

Hendry County

Caldwell Home Place, 160 Curry St., LaBelle, 03000009.

Jackson County

St. Luke Baptist Church, 4476 E. Jackson St., Marianna, 03000008.

Nassau County

Amelia Island Lighthouse, (Florida's Historic Lighthouses MPS), 215½ Lighthouse Circle, Fernandina Beach, 03000004.

Pinellas County

Jungle Prada Site, Address Restricted, St. Petersburg, 03000007.

Polk County

Oak Hill Cemetery, (Bartow MPS), West Parker St., Bartow, 03000006.

Volusia County

French, Seth, House, 319 E. French Ave., Orange City, 03000005.

MAINE

Aroostook County

St. John Catholic Church, St. John Rd., St. John Plantation, 03000017.

Hancock County

Agassiz Bedrock Outcrop, 406 State St., Ellsworth, 03000014.

East Blue Hill Post Office, 13 Curtis Cove Rd., East Blue Hill, 03000016.

Nazi Spy Landing Site, West shore of Crabtree Neck at Sunset Ledge Cove, Hancock Point, 03000015.

Waldo County

Frankfort Dam, S of jct. of ME 1A and North Branch of Marsh Stream, Frankfort, 03000018.

MISSOURI

Jackson County

Kansas City, Missouri Western Union Telegraph Building, 100-114 E. 7th St., Kansas City, 03000010.

NEW JERSEY

Cape May County

TBM-3E “Avenger” Torpedo Bomber Warplane, 500 Forrestal Rd., Cape May Airport, Lower Township, 03000019.

Whilldin—Miller House, 416 S. Broadway, Borough of West Cape May, 03000012.

Essex County

Weequahic Park Historic District, Roughly bounded by Meeker Ave., Dayton St., the Union County border and Maple Ave., Newark, 03000013.

Morris County

Pruddentown Historic District, Mount Kemble Ave., Morris Township, 03000011.

NEW YORK

Albany County

Mendelson, A., and Son Company Building, 40 Broadway, Albany, 03000021.

Columbia County

Blinn—Pulver Farmhouse, 219 Hudson Ave., Chatham, 03000025.

Dutchess County

Kimlin Cider Mill, Cedar Ave., Poughkeepsie, 03000020.

Greene County

Layman, Frank D., Memorial, Near Kaaterskill Falls, Hunter, 03000022.

Onteora Park Historic District, Onteora Club Property, Hunter, 03000023.

St. Lawrence County

Bayside Cemetery and Gatehouse Complex, (Red Potsdam Sandstone Resources Taken from Raquette River Quarries MPS), 115 Clarkson Ave., Potsdam, 03000026.

Brown, Luke, House, (Red Potsdam Sandstone Resources Taken from Raquette River Quarries MPS), 831 NY 72, Parishville, 03000030.

Clarkson Office Building, (Red Potsdam Sandstone Resources Taken from Raquette River Quarries MPS), 17 Maple St., Potsdam, 03000031.

St. Lawrence County

Parmeter, Nathaniel, House, (Red Potsdam Sandstone Resources Taken from Raquette River Quarries MPS), 498 NY 59, Potsdam, 03000027.

Trinity Episcopal Church, (Red Potsdam Sandstone Resources Taken from Raquette River Quarries MPS), 38 Maple St., Potsdam, 03000032.

Wallace, Jonathan, House, (Red Potsdam Sandstone Resources Taken from Raquette River Quarries MPS), 99 Market St., Potsdam, 03000028.

Zion Episcopal Church and Rectory, (Red Potsdam Sandstone Resources Taken from Raquette River Quarries MPS), 91 and 95 Main St., Colton, 03000029.

OREGON

Coos County

Marshfield's South Fifth Street Historic District, Roughly 900, 800, 700 blks of S. Fifth St., also portions of Hall, Ingersoll and Johnson Aves., Coos Bay, 03000034.

PENNSYLVANIA

Butler County

Saxonburg Historic District, Portions of E. and W. Main, N. and S. Rebecca, N. and S. Isabella, Pittsburgh, Butler, and State Sts., Saxonburg, 03000035.

Fayette County

Uniontown Downtown Historic District (Boundary Increase), 18 S. Beeson Blvd. and 9 E. Peter St., Uniontown, 03000036.

[FR Doc. 03-991 Filed 1-15-03; 8:45 am]

BILLING CODE 4310-70-P